DEPARTMENT OF HEALTH AND HUMAN SERVICES

Centers for Disease Control and Prevention

[30-Day-10-10CW]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Translation and Dissemination of Promising Community Interventions for Preventing Obesity—New—Division of Nutrition, Physical Activity and Obesity (DNPAO), National Center for Chronic Disease Prevention and Health Promotion (NCCDPHP), Centers for Disease Control and Prevention (CDC).

Background and Brief Description

The need for prevention and reduction of overweight and obesity is compelling. In the U.S., 65% of adults are overweight or obese. Obesity contributes to chronic conditions such as hypertension, Type 2 diabetes, stroke, coronary heart disease, and osteoarthritis. Beyond the human costs, economic costs are extreme and are climbing. A report on prevention of childhood obesity, prepared by the Institute of Medicine in 2007, concluded that there are insufficient studies to generate recommendations for best practices in obesity prevention. Instead, the report compiles promising practices, including those set in communities.

CDC plans to apply methodology recommended by the CDC Task Force on Community Preventive Services to improve the translation and dissemination of promising practices into community-based obesity prevention programs. Information necessary to this purpose will be collected from the general public. Information will be collected concerning respondents' knowledge, attitudes, and beliefs about obesity and physical activity; the need for community leaders to encourage healthier diets and more physical activity; and opportunities for leveraging current community efforts.

Two hundred fifty respondents will be recruited to participate in a series of four, small-group discussions using Voice over Internet Protocol. In preparation for the initial discussion, respondents will be asked to review a set of briefing materials and a guide to on-line discussion groups. In addition, these respondents will complete an on-line questionnaire on two occasions. The questionnaire is designed to measure the relative importance of various proposals for policy and environmental change, and whether change has occurred in perceptions of roles and responsibilities for obesity prevention. The baseline or “pre-test” questionnaire will be administered before the initial discussion group, and the “post-test” questionnaire will be administered after all discussion groups have been completed.

Information will also be collected from a comparison group of 700 respondents who will complete pre- and post-intervention questionnaires, but will not participate in the discussion groups or review the briefing materials.

The goal is to identify key issues for community obesity prevention programs, to refine promising obesity prevention practices for targeted communities, and to facilitate the dissemination of promising practices for obesity prevention. OMB approval is requested for one year. There are no costs to respondents other than their time. The total estimated annualized burden hours are 2,034.

Estimated Annualized Burden Hours
Type of respondents | Form name | Number of respondents | Number of responses per respondent | Average burden per response (in hours)
General Public | Discussion Group Moderator's Guide | 250 | 4 | 1
| Discussion Group Confirmation and Instructions | 250 | 1 | 10/60
| Briefing Materials | 250 | 1 | 10/60
| On-Line Questionnaire: Deliberative Poll on Obesity Prevention and Control | 950 | 2 | 30/60

Dated: September 15, 2010.
Carol Walker,
Acting Reports Clearance Officer, Centers for Disease Control and Prevention.

[FR Doc. 2010-23758 Filed 9-22-10; 8:45 am]

BILLING CODE 4163-18-P